ENVIRONMENTAL PROTECTION AGENCY

[FRL-9901-24-Region 4; CERCLA-04-2013-3764]

Warrior Rosin Spill Superfund Site, Holt, Tuscaloosa County, Alabama ; Notice of Settlement

AGENCY: Environmental Protection Agency (EPA).

ACTION: Notice of settlement.

SUMMARY: Under 122(h) of the Comprehensive Environmental Response, Compensation and Liability Act (CERCLA), the United States Environmental Protection Agency has entered into a settlement with the Warrior Asphalt Company of Alabama, Inc. addressing past costs concerning the Warrior Rosin Spill Superfund Site located in Holt, Tuscaloosa County, Alabama. The settlement addresses costs from a fund-lead Removal Action taken by EPA at the Site.

DATES: The Agency will consider public comments on the settlement until October 21, 2013. The Agency will consider all comments received and may modify or withdraw its consent to the settlement if comments received disclose facts or considerations which indicate that the settlement is inappropriate, improper, or inadequate.

ADDRESSES: Copies of the settlement are available from the Agency by contacting Ms. Paula V. Painter, Environmental Protection Specialist using the contact information provided in this notice. Comments may also be submitted by referencing the Site's name through one of the following methods:

• Internet: www.epa.gov/region4/superfund/programs/enforcement/enforcement.html.

• U.S. Mail: U.S. Environmental Protection Agency, Superfund Division, Attn: Paula V. Painter, 61 Forsyth Street SW., Atlanta, Georgia 30303.

• Email: Painter.Paula@epa.gov.

FOR FURTHER INFORMATION CONTACT: Paula V. Painter at 404/562-8887.

Dated: August 16, 2013.
Anita L. Davis,
Chief, Superfund Enforcement & Information Management Branch, Superfund Division.

[FR Doc. 2013-22928 Filed 9-19-13; 8:45 am]

BILLING CODE 6560-50-P